DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act (WIOA). The Secretary of Labor established the Committee on September 15, 2014 in accordance with the provisions of the Federal Advisory Committee Act (FACA), as amended, 5 U.S.C. App. 2. The purpose of the Committee is to study and prepare findings, conclusions and recommendations for the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates. The Committee is required to meet no less than eight times. It is also required to submit an interim report to the Secretary of Labor; the Senate Committee on Health, Education, Labor and Pensions; and the House Committee on Education and the Workforce within one year of the Committee's establishment. A final report must be submitted to the same entities no later than two years from the Committee establishment date. The Committee terminates one day after the submission of the final report.

The first meeting of the Committee will open to the public beginning at 11:30 a.m. on Thursday, January 22, 2015 and continue through 5:00 p.m. on Friday, January 23, 2015 at the U.S. Access Board, 1331 F Street NW., Suite 1000, Washington, DC 20004-1111. The morning session on the first day will be closed for a FACA and membership briefing. In addition, the Committee will discuss a number of other administrative items, including selection of a chairperson, review of objectives, approval of the schedule for future meetings, and other items related to the administrative functioning of the Committee. Beginning at 11:30 a.m., the meeting will be open to the public for brief remarks from Federal Committee members and other relevant Federal officials. The officials will discuss the areas within their agencies that potentially impact the work of the committee and their agencies' work in helping people with significant disabilities obtain competitive, integrated employment, including, when relevant, their work in implementing section 14(c) of FLSA. The Committee will also hear from people with intellectual and/or developmental disabilities.

On January 23, the Committee will hear witness expert testimony on a number of topics, including, but not limited to: Research findings regarding the potential of workers with significant disabilities; current state policy efforts across the country to address challenges; and barriers that impede competitive, integrated employment options for individuals with disabilities. In addition, school-to-work transition experts will discuss model strategies for transitioning young people with significant disabilities from school to competitive, integrated employment, and a panel of providers will discuss their employment practices for youth and adults with significant disabilities.

Members of the public will have an opportunity to provide testimony from 3:15-4:15 p.m. on January 23rd. Organizations or members of the public wishing to submit a written statement may do so by submitting 30 copies on or before January 14, 2015 to Christopher Button, Supervisory Policy Advisor, Advisory Committee on Increasing Competitive Integrated Employment for Individuals with Disabilities, U.S. Department of Labor, Suite S-1303, 200 Constitution Avenue NW., Washington, DC 20210. Statements also may be submitted as email attachments in rich text, Word, or pdf format transmitted to IntegratedCompetitiveEmployment@dol.gov. It is requested that statements not be included in the body of an email. Statements deemed relevant by the Committee and received on or before January 14, 2015 will be included in the record of the meeting. Do not include any personally identifiable information (such as name, address, or other contact information) or confidential business information that you do not want publicly disclosed.

Individuals or representatives or organizations wishing to address the Committee should forward their request by email to IntegratedCompetitiveEmployment@dol.gov or call Dr. Button at the U.S. Department of Labor's Office of Disability Employment Policy at (202) 693-4924. Oral presentations will be limited to five minutes, but an extended statement may be submitted for the record. Individuals with disabilities who need accommodations should also contact Dr. Button at the address or phone number above.

Signed at Washington, DC, this 17th day of December, 2014.
Jennifer Sheehy,
Deputy Assistant Secretary, Office of Disability Employment Policy.

[FR Doc. 2014-30137 Filed 12-23-14; 8:45 am]

BILLING CODE 4510-23-P